DEPARTMENT OF THE INTERIOR

Bureau of Land Management

[WY-030-07-1610-DQ]

Notice of Availability of the Rawlins Proposed Resource Management Plan and Final Environmental Impact Statement, Wyoming

AGENCY: Bureau of Land Management, Interior.

ACTION: Notice of availability.

SUMMARY: In accordance with the National Environmental Policy Act of 1969 (NEPA) and the Federal Land Policy and Management Act of 1976 (FLPMA), the Bureau of Land Management (BLM) and its cooperating agencies, have prepared a Proposed Resources Management Plan and Final Environmental Impact Statement (PRMP/EIS) for the Rawlins Field Office for public review.

DATES: The BLM Planning regulations set forth the provisions applicable to protests (43 Code of Federal Regulations (CFR) 1610.5-2). A person who meets the conditions as described in the regulations cited above, and who wishes to file a protest, must file said protest within 30 days of the date this notice is published in the Federal Register. Additional information on protests is set forth in the Dear Reader letter of the Rawlins PRMP/EIS and in the SUPPLMENTARY INFORMATION section of this notice. To ensure compliance with the protest regulations, please consult the BLM's Planning regulations at 43 CFR 1610.5-2.

ADDRESSES: A copy of the PRMP/FEIS has been sent to affected Federal, State, and local government agencies and to interested parties. The document will be available electronically at the following Rawlins RMP revision Web site: http://www.blm.gov/rmp/wy/rawlins. Copies of the PRMP/FEIS will be available for public inspection at the following locations:

• Bureau of Land Management, Wyoming State Office, 5353 Yellowstone Road, Cheyenne, Wyoming 82003.

• Bureau of Land Management, Rawlins Field Office, 1300 N. Third Street, Rawlins, Wyoming 82301.

FOR FURTHER INFORMATION CONTACT: Mark Storzer, Field Manager, or John Spehar, Rawlins RMP Team Leader, BLM Rawlins Field Office, 1300 N. Third Street, P.O. Box 2407, Rawlins, Wyoming 82301, or by telephone at (307) 328-4200.

SUPPLEMENTARY INFORMATION: The Rawlins Field Office planning area includes all of the public land and Federal mineral ownership in Laramie, Albany, Carbon, and eastern Sweetwater Counties, Wyoming. The area includes approximately 3.5 million acres of BLM-administered surface lands and 4.5 million acres of Federal mineral lands under Federal, State, and private surface.

The Draft RMP/Draft EIS was made available for public review for a 90-day period on December 12, 2004. The Draft RMP/Draft EIS described and analyzed 4 alternatives for the management of the public lands and resources, including the Federal mineral estate administered by the BLM Rawlins Field Office:

Alternative 1 (No Action): Continues to balance the use and development of resources under current management guidance;

Alternative 2: Provides development and use opportunities while minimizing adverse impacts to cultural and natural resources;

Alternative 3: Focuses on greater conservation of natural and cultural resources while providing for compatible development and use; and

Alternative 4: (Agency Preferred Alternative): Provides development opportunities while protecting sensitive resources.

The key issues addressed by the alternatives are: (1) Development of energy resources and minerals; (2) special management designations; (3) public access and transportation planning; (4) wildland-urban interface; (5) management of special status species; (6) water quality; (7) vegetation management; (8) recreation activities; and (9) cultural resources management.

The Draft RMP/Draft EIS includes recommendations regarding Areas of Critical Environmental Concern (ACECs). While the Draft RMP/Draft EIS fully documents the ACECs considered, to ensure that BLM provided the public with the required 60-day comment and review period as required by 43 CFR 1610.7-2, the BLM published a notice of supplemental information describing the proposed ACECs and associated values and use limitations in the Federal Register June 5, 2007.

Comments received on the Draft RMP/Draft EIS from the public and internal BLM review comments were incorporated into the proposed plan. Public comments resulted in the addition of clarifying text but did not significantly change proposed land use decisions.

After careful consideration of both public and internal comments received on the Draft RMP/Draft EIS, adjustments and clarifications have been made to Alternative 4, the Preferred Alternative. As modified, Alternative 4 is now presented as the Proposed Rawlins RMP in the Final EIS. The Proposed Rawlins RMP would provide comprehensive, long-range decisions for the use and management of resources in the planning area administered by the BLM and focus on the principles of multiple use and sustained yield.

As noted above, instructions for filing a protest with the Director of the BLM regarding the PRMP/EIS may be found at 43 CFR 1610.5-2. Electronic mail and facsimile protests will be considered only if the protesting party provides BLM with the original letter by either regular or overnight mail postmarked by the close of the protest period. Under those conditions, the BLM will consider the electronic or facsimile version as an advance copy and it will receive full consideration. If you wish to provide the BLM with such advance notification, please direct faxed protests to the attention of the BLM protest coordinator at (202) 452-5112, and e-mails to Brenda_Hudgens-Williams@blm.gov. All protests must be in writing and mailed to one of the following addresses:

Regular Mail: | Overnight Mail:
Director (210) | Director (210)
Attention: Brenda Williams | Attention: Brenda Williams
P.O. Box 66538 | 1620 L Street, NW., Suite 1075
Washington, DC 20036 | Washington, DC 20036

Before including your address, phone number, e-mail address, or other personal identifying information in your protest, you should be aware that your entire protest—including your personal identifying information—may be made publicly available at any time. While you can ask us in your protest to withhold your personal identifying information from public review, we cannot guarantee that we will be able to do so.

Donald A. Simpson,
Associate State Director.

[FR Doc. E7-25577 Filed 1-3-08; 8:45 am]

BILLING CODE 4310-22-P